DEPARTMENT OF TRANSPORTATION

Federal Railroad Administration

49 CFR Part 213

[Docket No. RST-90-1, Notice No. 12]

RIN 2130-AB32

Track Safety Standards; Correction

AGENCY: Federal Railroad Administration (FRA), Department of Transportation (DOT).

ACTION: Final rule; corrections.

SUMMARY: The Federal Railroad Administration published in the Federal Register of January 10, 2001 (66 FR 1894), a final rule to amend the Track Safety Standards contained in 49 CFR part 213. This correction document corrects inadvertent errors in the final rule.

DATES: Effective on April 10, 2001.

FOR FURTHER INFORMATION CONTACT: Allison H. MacDowell, Office of Safety Assurance and Compliance, Federal Railroad Administration, 1120 Vermont Avenue, NW., Mail Stop 25, Washington, DC 20590 (telephone: 202-493-6236), or Nancy Lummen Lewis, Office of Chief Counsel, Federal Railroad Administration, 1120 Vermont Avenue, NW., Mail Stop 10, Washington, DC 20590 (telephone: 202-493-6047).

SUPPLEMENTARY INFORMATION: FRA published a final rule in the Federal Register of January 10, 2001 (66 FR 1894), which, effective April 10, 2001, amends the Track Safety Standards in 49 CFR part 213 by adding procedures for track owners to follow when using Gage Restraint Measuring Systems to assess the ability of their track to maintain proper gage. The final rule, however, contained several inadvertent errors which are corrected with this document.

In the final rule published on January 10, 2001, (66 FR 1894), make the following corrections:

Corrections to Preamble

1. On page 1894, third column, in the heading, following “Docket No. RST-90-1,”, remove “Notice No. 9” and replace with “Notice No. 11.”

2. On page 1894, third column, remove the last sentence of the section designated as SUMMARY, which states: “Individuals employed by the track owner to inspect track must be permitted to exercise their discretion in judging whether the track segment should also be visually inspected by a qualified track inspector.”

3. On page 1896, third column, remove the paragraph under the section titled “Paragraph (j),” and replace with the following paragraph:

“The track owner is required to institute procedures that will ensure the integrity of data collected by the GRMS and PTLF systems. Daily GRMS instrument verification procedures should ensure that measurements made on the ground of loaded and unloaded gage parameters correlate to those recorded by the instrumentation. Track owners shall maintain documented calibration procedures on each GRMS vehicle and make them available upon request from an FRA representative. Track owners shall also develop and implement the necessary PTLF inspection and maintenance procedures so that the 4,000-pound reading is accurate within plus/minus five percent.”

4. On page 1897, second column, remove the first paragraph under the section titled “Paragraph (m),” and replace with the following paragraph:

“While the remedial action table in paragraph (l) requires the use of the PTLF to measure compliance with the lateral restraint and gage requirements at identified exception locations in GRMS territory, paragraph (m) also provides for the use of a PTLF as an additional analytical tool by fully qualified § 213.7 individuals at other locations in GRMS territory. Paragraph (m) also describes the manner in which a PTLF must be used in GRMS territory, whether it is being used as an additional analytical tool or being used to meed the remedial action requirements set forth in paragraph (l). Compliance with §§ 213.109 and 213.127 will be demonstrated when a PTLF is applied and (1) the total gage widening at that location does not exceed 5/8 inch when increasing the applied force from 0 to 4,000 pounds, and (2) the gage of the track measured under 4,000 pounds of applied force does not exceed the allowable gage prescribed in § 213.53(b) of this section for the class of track involved. Gage widening in excess of 5/8 inch shall constitute a deviation from Class 1 standards.”

Corrections to Rule

PART 213—[CORRECTED]

§ 213.110 [Corrected]

5. On page 1900, second column, in § 213.110, correct paragraph (j)(1) to read as follows:

§ 213.110 Gage restraint measurement systems.

* * * * *

(j) * * *

(1) Maintain and make available to the Federal Railroad Administration documented calibration procedures on each GRMS vehicle which, at a minimum, shall specify a daily instrument verification procedure that will ensure correlation between measurements made on the ground and those recorded by the instrumentation with respect to loaded and unloaded gage parameters; and

* * * * *

6. On page 1901, first column, in § 213.110(m), correct the introductory text to read as follows:

* * * * *

(m) Between GRMS inspections, the PTLF may be used as an additional analytical tool to assist fully qualified § 213.7 individuals in determining compliance with the crosstie and fastener requirements of §§ 213.109 and 213.127. When the PTLF is used, whether as an additional analytical tool or to fulfill the requirements of paragraph (l), it shall be used subject to the following criteria—

* * * * *

Dated: January 17, 2001.
John V. Wells,
Acting Federal Railroad Administrator.

[FR Doc. 01-1973 Filed 1-30-01; 8:45 am]

BILLING CODE 4910-06-P